DEPARTMENT OF HEALTH AND HUMAN SERVICES

National Institutes of Health

National Institute of Neurological Disorders and Stroke

Pursuant to section 10(a) of the Federal Advisory Committee Act, as amended, notice is hereby given of an Interagency Pain Research Coordinating Committee (IPRCC) meeting.

The meeting will be open to the public, with attendance limited to space available. Individuals who plan to attend and need special assistance, such as sign language interpretation or other reasonable accommodations, should notify the Contact Person listed below in advance of the meeting.

Name of Committee: Interagency Pain Research Coordinating Committee.

Date: November 16, 2018.

Time: 8:30 a.m. to 5:00 p.m. *Eastern Time*—Approximate end time.

Agenda: The meeting will include discussions of committee business items including an updated Federal Pain Portfolio Analysis, an update on the Federal Pain Research Strategy and information about the NIH HEAL Initiative.

Place: National Institutes of Health, Building 35 A, Porter Neuroscience Center, Room 620/630, 35 Convent Drive, Bethesda, MD 20892.

Webcast Live: http://videocast.nih.gov/.

Deadlines: Submission of intent to submit written/electronic statement for comments: Friday, November 2, 2018. Submission of written/electronic statement for oral comments: Friday, November 9, 2018.

Contact Person: Linda L. Porter, Ph.D., Director, Office of Pain Policy & Planning, Office of the Director, National Institute of Neurological Disorders and Stroke, NIH, 31 Center Drive, Room 8A31, Bethesda, MD 20892, Phone: (301) 451-4460, Email: Linda.Porter@nih.gov.

Please Note: Any member of the public interested in submitting written comments to the Committee must notify the Contact Person listed on this notice by 5:00 p.m. ET on Friday, November 2, 2018, with their request. Interested individuals and representatives of organizations must submit a written/electronic copy of the oral statement/comments including a brief description of the organization represented by 5:00 p.m. ET on Friday, November 9, 2018. Statements submitted will be shared with the committee members and become a part of the public record.

The meeting will be open to the public and accessible by live Webcast. Individuals who participate in person or by using these electronic services and who need special assistance, such as captioning or other reasonable accommodations, should submit a request to the Contact Person listed on this notice at least seven days prior to the meeting.

As a part of security procedures, attendees should be prepared to present a photo ID during the security process to get on the NIH campus. For a full description, please see: http://www.nih.gov/about/visitorsecurity.htm.

Information about the IPRCC is available on the website: http://iprcc.nih.gov/.

Dated: October 16, 2018.
Sylvia L. Neal,
Program Analyst, Office of Federal Advisory Committee Policy.

[FR Doc. 2018-23032 Filed 10-22-18; 8:45 am]

BILLING CODE 4140-01-P